CONSUMER PRODUCT SAFETY COMMISSION

Sunshine Act Meeting Notices

TIME AND DATE: Thursday, March 25, 2021, 10:00 a.m.-11:00 a.m.

PLACE: Due to the COVID-19 Pandemic, the meetings will be held remotely.

STATUS: Commission Meeting—Open to the Public.

MATTERS TO BE CONSIDERED: Decisional Matters:

Notice of Availability—Proposed Guidance for Industry and Test Method Developers: CPSC Staff Evaluation of Alternative Test Methods and Integrated Testing Approaches and Data Generated from Such Methods to Support FHSA Labeling Requirements

FY 2021 Mid-Year Review

All attendees should preregister for the Webinar. To pre-register for the Webinar, please visit: https://attendee.gotowebinar.com/register/3191636378501841677.

TIME AND DATE: Thursday, March 25, 2021; 11:00 a.m.-12:00 p.m.

PLACE: Due to the COVID-19 Pandemic, this meeting will be held remotely.

STATUS: Commission Meeting—Closed to the Public.

MATTERS TO BE CONSIDERED: Decisional matter.

CONTACT PERSON FOR MORE INFORMATION: Alberta E. Mills, Office of the Secretary, U.S. Consumer Product Safety Commission, 4330 East-West Highway, Bethesda, MD 20814, 301-504-7479 (Office) or 240-863-8938 (Cell).

Dated: March 18, 2021.
Alberta E. Mills,
Commission Secretary.

[FR Doc. 2021-06017 Filed 3-19-21; 11:15 am]

BILLING CODE 6355-01-P